DEPARTMENT OF AGRICULTURE

Food Safety and Inspection Service

[Docket No. FSIS-2006-0017]

Technical Service Center Operations

AGENCY: Food Safety and Inspection Service, USDA.

ACTION: Notice, request for comments.

SUMMARY: The Food Safety and Inspection Service (FSIS) is reviewing the organization, operations, and services provided by its Technical Service Center (TSC) in Omaha, Nebraska, with the intent of improving TSC programs that provide technical advice, guidance, and information to FSIS personnel, the regulated industry, and the general public. FSIS is particularly interested in improving TSC programs that assist small businesses. FSIS seeks comment from the public as part of this effort to improve TSC operations.

DATES: Comments on this notice must be received on or before August 30, 2006.

ADDRESSES: FSIS invites interested persons to submit comments on this notice. Comments may be submitted by any of the following methods:

Federal eRulemaking Portal: This Web site provides the ability to type short comments directly into the comment field on this web page or attach a file for lengthier comments. Go to http://www.regulations.gov and, in the “Search for Open Regulations” box, select “Food Safety and Inspection Service” from the agency drop-down menu, then click on “Submit.” In the Docket ID column, select the FDMS Docket Number FSIS-2006-0017 to submit or view public comments and to view supporting and related materials available electronically. After the close of the comment period, the docket can be viewed using the “Advanced Search” function in Regulations.gov.

Mail, including floppy disks or CD-ROMs, and hand- or courier-delivered items: Send to Program Evaluation and Improvement Staff, Food Safety and Inspection Service, U.S. Department of Agriculture, Room 3833 South Building, 1400 Independence Avenue, SW., Washington, DC 20250-3700.

Electronic mail: fsis.regulationscomments@fsis.usda.gov.

All submissions received must include the Agency name and docket number FSIS-2006-0017.

All comments submitted in response to this notice will be posted to the regulations.gov Web site and on the Agency's Web site at http://www.fsis.usda.gov/regulations_&_policies/2006_Notices_Index/index.asp. The comments also will be available for public inspection in the FSIS Docket Room at the address listed above between 8:30 a.m. and 4:30 p.m., Monday through Friday, except Federal holidays.

FOR ADDITIONAL INFORMATION: Contact Matthew Michael, Director, Program Evaluation and Improvement Staff, Office of Program Evaluation, Enforcement & Review, FSIS, U.S. Department of Agriculture, Room 3833 South Building, 14th and Independence Ave., SW., Washington, DC 20250-3700; telephone (202) 720-6735; fax (202) 690-1030; e-mail: matthew.michael@fsis.usda.gov.

SUPPLEMENTARY INFORMATION:

Background

In 1997, FSIS established the TSC to serve as a vital component in implementing the Agency's science-based inspection system. As part of the 1996 FSIS reorganization, the TSC was established to provide frontline inspectors and supervisors consistent technical guidance and expertise on the interpretation, enforcement, and application of regulations, policies, and systems. FSIS' intent was to concentrate in one location the technical expertise previously located in numerous headquarters and field offices in order to provide comprehensive and consistent technical advice quickly during the implementation of this initiative. The center's creation was critical to the successful implementation of the 1996 Hazard Analysis and Critical Control Point (HACCP) systems regulation, which established new requirements for the regulated industry and changed many of the tasks carried out by inspectors.

In November 2004, FSIS asked the National Advisory Committee on Meat and Poultry Inspection to provide input on how well the TSC is functioning, and what the center should be doing in light of the fact that HACCP implementation was complete. In its report to FSIS, NACMPI fully supported the continuation of the center to provide technical assistance to the Agency and the industry and made a number of suggestions to improve the center's effectiveness, including improving consistency of answers, compiling helpful resources for the industry, and expanding formal correlation between FSIS and industry.

The TSC continues to assist the FSIS workforce, plant owners and operators, state and foreign government officials, industry representatives, and others by:

• Providing technical advice, guidance, and information related to the interpretation, application, implementation and enforcement of regulations, policies and systems concerning meat and poultry processing, slaughter, imports and egg products inspection activities;

• Contributing to the development of Agency policy on various matters, particularly issues involving inspection at slaughter and processing;

• Correlating inspection procedures and requirements with FSIS' Office of Field Operations personnel and industry;

• Guiding the implementation of new and modified inspection programs and procedures;

• Interacting with other program areas to assure information exchange and uniformity of regulatory issues within the Agency;

• Working with the FSIS Center for Learning to develop and deliver training;

• Analyzing data in major Agency databases for recurring and specific project requirements; and

• Identifying emerging data analysis and management needs, including developing, piloting, implementing, and maintaining databases and reporting systems, and raising policy and program issues based on that analysis.

Significantly, the TSC does not provide a forum for resolving disputes between inspection personnel and plant management, nor does it rule on appeals. This is a function of the chain of command and the appeals process is described in 9 CFR 306.5. The role of the TSC is to assist decision making by providing all parties with the standards and other technical information needed to understand, implement, apply, and enforce regulatory requirements. Two TSC staffs, both within the FSIS Office of Policy, Program & Employee Development, provide the services described above. The Technical Assistance/Correlation Staff (TAC) provides technical expertise, guidance and correlation. The Program Analysis Staff (PAS) conducts data analysis and special studies concerning Agency program operations.

FSIS is now seeking broader input on the organization, operations, and services provided by the TSC, with the intent of improving TSC programs. As part of a comprehensive evaluation of TSC operations and services, the Agency is seeking comments from the public and especially from small businesses. Feedback from small businesses is being requested specifically as a result of the Agency's initiative to improve its outreach to small and very small plants to further improve their food safety programs.

Questions

All relevant comments are welcome, but FSIS specifically seeks responses from the regulated industry to the following questions:

• In what way has the availability of TSC services helped you with your operations?

• When you have contacted the TSC, has the response been prompt, clear, thorough, and courteous?

• Is the technical guidance provided by the TSC consistent with regulations and policy as written? Is the technical guidance consistent with guidance given by FSIS inspection program personnel?

• Have you used the TSC website? If so, has it been useful?

• If you have contacted the TSC multiple times regarding the same topic, has the guidance been consistent over time?

• How could the TSC improve its services?

• Have you had difficulty in reaching the TSC staff?

• What recommendations do you have for TSC in communicating information to you?

• What specifically could the TSC do to improve its services to small businesses?

Additional Public Notification

Public awareness of all segments of rulemaking and policy development is important. Consequently, in an effort to ensure that the public and in particular minorities, women, and persons with disabilities, are aware of this notice, FSIS will announce it on-line through the FSIS web page located at http://www.fsis.usda.gov/regulations/2006_Notices_Index/index.asp.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS web page. Through Listserv and the web page, FSIS is able to provide information to a much broader, more diverse audience.

In addition, FSIS offers an email subscription service which provides automatic and customized access to selected food safety news and information. This service is available at http://www.fsis.usda.gov/news_and_events/email_subscription/ Options range from recalls to export information to regulations, directives and notices. Customers can add or delete subscriptions themselves and have the option to password protect their account.

Done at Washington, DC, on July 26, 2006.
Barbara J. Masters,
D.V.M. Administrator.

[FR Doc. E6-12217 Filed 7-28-06; 8:45 am]

BILLING CODE 3410-DM-P